DEPARTMENT OF ENERGY

Federal Energy Regulatory Commission

[Docket Nos. RP00-469-006, RP01-22-008 and RP03-177-003]

East Tennessee Natural Gas Company; Notice of Supplemental Compliance Filing

August 20, 2003.

Take notice that on August 14, 2003, East Tennessee Natural Gas Company (East Tennessee) tendered for filing as part of its FERC Gas Tariff, Second Revised Volume No. 1, Second Sub Original Sheet No. 13, to be effective November 3, 2003.

East Tennessee states that the purpose of this filing is to clarify tariff language contained in its June 23, 2003 compliance filing in the captioned dockets in response to customer comments.

East Tennessee states that copies of its filing have been mailed to all affected customers and interested state commissions, as well as to all parties on the official service lists compiled by the Secretary of the Commission in these proceedings.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 26, 2003.

Magalie R. Salas,
Secretary.

[FR Doc. 03-21893 Filed 8-26-03; 8:45 am]

BILLING CODE 6717-01-P